DEPARTMENT OF COMMERCE

International Trade Administration

[C-570-911]

Circular Welded Carbon Quality Steel Pipe From the People's Republic of China: Rescission of Countervailing Duty Administrative Review; 2014

AGENCY: Enforcement and Compliance, International Trade Administration, Department of Commerce

SUMMARY: The Department of Commerce (the Department) is rescinding the administrative review of the countervailing duty order on circular welded carbon quality steel pipe (CWP) from the People's Republic of China (PRC) for the period of review January 1, 2014, through December 31, 2014.

DATES: Effective Date: February 4, 2016.

FOR FURTHER INFORMATION CONTACT: Dana Mermelstein or Toby Vandall, AD/CVD Operations, Office I, Enforcement and Compliance, International Trade Administration, U.S. Department of Commerce, 14th Street and Constitution Avenue NW., Washington, DC 20230; telephone: (202) 482-1391 and (202) 482-1664, respectively.

SUPPLEMENTARY INFORMATION:

Background

On July 1, 2015, the Department published the Notice of Opportunity to request an administrative review of the countervailing duty order on CWP from the PRC for the period of review January 1, 2014, through December 31, 2014.¹ On July 24, 2015, Wheatland Tube Company (the petitioner) submitted a request for an administrative review of the countervailing duty order on CWP from the PRC for 19 companies.² No other party requested an administrative review. On September 2, 2015, the Department published the notice of initiation of an administrative review of the order for the period of review January 1, 2014, through December 31, 2014.³ On December 1, 2015, the petitioner withdrew its request for review of all 19 companies.⁴

¹ See Antidumping or Countervailing Duty Order, Finding, or Suspended Investigation; Opportunity To Request Administrative Review, 80 FR 37583 (July 1, 2015) (Notice of Opportunity).

² See letter from the petitioner, “Circular Welded Carbon Quality Steel Pipe From The People's Republic Of China: Request For Administrative Review,” (July 24, 2015).

³ See Initiation of Antidumping and Countervailing Duty Administrative Reviews, 80 FR 53106 (September 2, 2015) (Initiation Notice).

⁴ See letter from the petitioner, “Circular Welded Carbon Quality Steel Pipe From The People's Republic Of China: Withdrawal of Request For Administrative Review,” (December 1, 2015).

Rescission of Review

Pursuant to 19 CFR 351.213(d)(1), the Department will rescind an administrative review, in whole or in part, if the party or parties that requested a review withdraws the request within 90 days of the publication date of the notice of initiation of the requested review. As noted above, the petitioner withdrew its request for an administrative review within 90 days of the publication date of the Initiation Notice. No other parties requested an administrative review of the order. Therefore, in accordance with 19 CFR 351.213(d)(1), we are rescinding this review in its entirety.

Assessment

The Department will instruct U.S. Customs and Border Protection (CBP) to assess countervailing duties on all appropriate entries of CWP from the PRC. Countervailing duties shall be assessed at rates equal to the cash deposit of estimated countervailing duties required at the time of entry, or withdrawal from warehouse, for consumption in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of countervailing duties prior to liquidation of the relevant entries during this review period. Failure to comply with this requirement could result in the presumption that reimbursement of countervailing duties occurred and the subsequent assessment of doubled countervailing duties.

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: February 1, 2016.
Christian Marsh,
Deputy Assistant Secretary for Antidumping and Countervailing Duty Operations.

[FR Doc. 2016-02151 Filed 2-3-16; 8:45 am]

BILLING CODE 3510-DS-P